DEPARTMENT OF ENERGY

Federal Energy Regulatory Commission

Combined Notice of Filings #1

Take notice that the Commission received the following electric rate filings:

Docket Numbers: ER10-3193-013.

Applicants: Brooklyn Navy Yard Cogeneration Partners, L.P.

Description: Notice of Non-Material Change in Status of Brooklyn Navy Yard Cogeneration Partners, L.P.

Filed Date: 8/23/18.

Accession Number: 20180823-5080.

Comments Due: 5 p.m. ET 9/13/18.

Docket Numbers: ER14-1818-016.

Applicants: Boston Energy Trading and Marketing LLC.

Description: Notice of Non-Material Change in Status of Boston Energy Trading and Marketing LLC.

Filed Date: 8/22/18.

Accession Number: 20180822-5114.

Comments Due: 5 p.m. ET 9/12/18.

Docket Numbers: ER18-1445-001.

Applicants: Idaho Power Company.

Description: Compliance filing: Amendment to LGIA, LGIP, SGIA, and SGIP Modifications (Per Order No. 842) Filing to be effective 6/25/2018.

Filed Date: 8/23/18.

Accession Number: 20180823-5053.

Comments Due: 5 p.m. ET 9/13/18.

Docket Numbers: ER18-2158-000; ER18-2159-000.

Applicants: Stillwater Wind, LLC, Crazy Mountain Wind LLC.

Description: Supplement to August 3, 2018 Stillwater Wind, LLC, et al. tariff filings (revised Appendix B-1).

Filed Date: 8/21/18.

Accession Number: 20180821-5090.

Comments Due: 5 p.m. ET 8/31/18.

Docket Numbers: ER18-2281-000.

Applicants: BFE Scheduling, LLC.

Description: Notice of cancellation of MBR Tariff of BFE Scheduling, LLC.

Filed Date: 8/22/18.

Accession Number: 20180822-5125.

Comments Due: 5 p.m. ET 9/12/18.

Docket Numbers: ER18-2282-000.

Applicants: Midcontinent Independent System Operator, Inc.

Description: § 205(d) Rate Filing: 2018-08-23_SA 2426 Montana Dakota-Montana Dakota 3rd Rev GIA (G752) to be effective 8/9/2018.

Filed Date: 8/23/18.

Accession Number: 20180823-5060.

Comments Due: 5 p.m. ET 9/13/18.

Docket Numbers: ER18-2283-000.

Applicants: Midcontinent Independent System Operator, Inc.

Description: § 205(d) Rate Filing: 2018-08-23_SA 3161 ATC-WPL Project Commitment Agreement (Edgerton) to be effective 10/23/2018.

Filed Date: 8/23/18.

Accession Number: 20180823-5072.

Comments Due: 5 p.m. ET 9/13/18.

Docket Numbers: ER18-2284-000.

Applicants: Midcontinent Independent System Operator, Inc.

Description: § 205(d) Rate Filing: 2018-08-23_SA 3162 ATC-WPL Project Commitment Agreement (EPIC) to be effective 10/23/2018.

Filed Date: 8/23/18.

Accession Number: 20180823-5074.

Comments Due: 5 p.m. ET 9/13/18.

Docket Numbers: ER18-2285-000.

Applicants: Midcontinent Independent System Operator, Inc.

Description: § 205(d) Rate Filing: 2018-08-23_SA 3163 ATC-WPS Project Commitment Agreement (Plover) to be effective 10/23/2018.

Filed Date: 8/23/18.

Accession Number: 20180823-5079.

Comments Due: 5 p.m. ET 9/13/18.

Docket Numbers: ER18-2286-000.

Applicants: The United Illuminating Company.

Description: § 205(d) Rate Filing: Schedule 20A Service Agreement with H.Q. Energy Services (U.S.) Inc. to be effective 1/1/2018.

Filed Date: 8/23/18.

Accession Number: 20180823-5085.

Comments Due: 5 p.m. ET 9/13/18.

Docket Numbers: ER18-2287-000.

Applicants: Mid-Atlantic Interstate Transmission, LLC, PJM Interconnection, L.L.C.

Description: § 205(d) Rate Filing: MAIT submits four ECSAs, Service Agreement Nos. 5013, 5014, 5015, and 5016 to be effective 10/23/2018.

Filed Date: 8/23/18.

Accession Number: 20180823-5086.

Comments Due: 5 p.m. ET 9/13/18.

Take notice that the Commission received the following electric securities filings:

Docket Numbers: ES18-59-000.

Applicants: South Carolina Electric & Gas Company, South Carolina Generating Company, Inc.

Description: Application for Authorization Under Federal Power Act Section 204 of South Carolina Electric & Gas Company, et al.

Filed Date: 8/22/18.

Accession Number: 20180822-5117.

Comments Due: 5 p.m. ET 9/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2018.
Nathaniel J. Davis, Sr.,
Deputy Secretary.

[FR Doc. 2018-18710 Filed 8-28-18; 8:45 am]

BILLING CODE 6717-01-P